DEPARTMENT OF AGRICULTURE

Submission for OMB Review; Comment Request

January 10, 2014.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), New Executive Office Building, 725 17th Street NW., Washington, DC 20502. Commenters are encouraged to submit their comments to OMB via email to: OIRA_Submission@omb.eop.gov or fax (202) 395-5806 and to Departmental Clearance Office, USDA, OCIO, Mail Stop 7602, Washington, DC 20250-7602. Comments regarding these information collections are best assured of having their full effect if received by February 18, 2014. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Rural Housing Service

Title: Single Family Housing Guaranteed Loan Program.

OMB Control Number: 0575-0179.

Summary of Collection: The Housing and Community Facilities Program (HCFP), herein referred to as the “Agency,” is a credit agency for the Rural Housing Service (RHS) of the U.S. Department of Agriculture. The Agency offers supervised credit programs to build modest housing and essential community facilities in rural areas. Section 517(d) of Title V of the Housing Act of 1949, as amended, provides the authority for the Secretary to issue loan guarantees for the acquisition of new or existing dwellings and related facilities to provide decent, safe, and sanitary living conditions and other structures in rural areas. The Single Family Housing Guaranteed Loan Program (SFHGLP) was authorized under the Cranston-Gonzalez National Affordable Housing Act. The purpose of SFHGLP is to assist low and moderate-income individuals and families in acquiring or constructing a single-family residence in a rural area with loans made by private lenders.

Need and Use of the Information: Information is collected from both a potential homebuyer and lender. To participate in the program, lenders must submit to standards which ensure the loan objectives of the SFHGLP are met. The lender submits qualifications to the Agency and enters into an agreement that outlines both the lender and Agency's commitments and responsibilities under the guaranteed program. Information from a homebuyer includes financial documents such as confirmation of household income, assets and liabilities, a credit record, evidence the homebuyer has adequate repayment ability for the loan amount requested and if the condition and location of the property meet program guidelines. All information collected is vital for the Agency to determine if borrowers qualify for all assistance for which they are eligible.

This is a reinstatement with changes of a previously approved collection.

Description of Respondents: Business or other for-profit; State, Local or Tribal Government.

Number of Respondents: 3,581.

Frequency of Responses: Reporting: Monthly; Quarterly; Annually.

Total Burden Hours: 789,139.

Charlene Parker,
Departmental Information Collection Clearance Officer.

[FR Doc. 2014-00646 Filed 1-15-14; 8:45 am]

BILLING CODE 3410-XV-P